DEPARTMENT OF THE INTERIOR

Bureau of Land Management

[LLAK-963000-L1410000-FQ0000; AA-3084]

Public Land Order No. 7756; Revocation of a Secretarial Order Dated October 8, 1947; Alaska

AGENCY: Bureau of Land Management, Interior.

ACTION: Public Land Order.

SUMMARY: This order revokes a Secretarial Order in its entirety as it affects approximately 266 acres of public land withdrawn on behalf of the Federal Aviation Administration for Air Navigation Site No. 237 on Shuyak Island, Alaska. The land is no longer needed for air navigation purposes. The land is within the Alaska Maritime National Wildlife Refuge.

DATES: Effective Date: January 11, 2011.

FOR FURTHER INFORMATION CONTACT: Robert L. Lloyd, BLM Alaska State Office, 222 W. Seventh Avenue, #13, Anchorage, Alaska 99513, 907-271-4682.

SUPPLEMENTARY INFORMATION: The Federal Aviation Administration has determined that the withdrawal is no longer needed for air navigation purposes. The land is within the Alaska Maritime National Wildlife Refuge pursuant to Section 303(1)(v) of Public Law 96-487 and will continue to be managed by the U.S. Fish and Wildlife Service. The land is also subject to the terms and conditions of Public Land Order No. 5184 (37 FR 5588 (1972)) and Public Land Order No. 5186 (37 FR 5589 and 5590 (1972)), both as amended, and any other withdrawal, application, or segregation of record.

Order

By virtue of the authority vested in the Secretary of the Interior by Section 204 of the Federal Land Policy and Management Act of 1976, 43 U.S.C. 1714, it is ordered as follows:

The Secretarial Order dated October 8, 1947 (12 FR 6769 (1947)), which withdrew approximately 266 acres of public land on behalf of the Federal Aviation Administration, formerly the Civil Aeronautics Administration, for Air Navigation Site No. 237, is hereby revoked in its entirety.

Dated: December 21, 2010.
Wilma A. Lewis,
Assistant Secretary—Land and Minerals Management.

[FR Doc. 2011-317 Filed 1-10-11; 8:45 am]

BILLING CODE 4310-JA-P